DEPARTMENT OF ENERGY

Energy Information Administration

Agency Information Collection Activities: Policy for Revisions to the Weekly Natural Gas Storage Report; Comment Request

AGENCY: Energy Information Administration (EIA), Department of Energy (DOE).

ACTION: Agency information collection activities: Policy for revisions to the Weekly Natural Gas Storage Report; comment request.

SUMMARY: The EIA is soliciting comments on the proposed revision policy for the Weekly Natural Gas Storage Report (WNGSR). The WNGSR provides weekly estimates of working gas volumes held in underground storage facilities at the national and regional levels. The WNGSR became a new EIA information product in 2002 replacing an American Gas Association report begun in 1994 and discontinued in 2002. The WNGSR is based on information collected by EIA on Form EIA-912, “Weekly Underground Gas Storage Report.”

DATES: Comments must be filed by August 12, 2002. If you anticipate difficulty in submitting comments within that period, contact the person listed below as soon as possible.

ADDRESSES: Send comments to William Trapmann. To ensure receipt of the comments by the due date, submission by FAX (202-586-4220) or e-mail (William.Trapmann@eia.doe.gov) is recommended. The mailing address is Energy Information Administration, EI-44, Forrestal Building, U.S. Department of Energy, Washington, DC 20585. Alternatively, Mr. Trapmann may be contacted by telephone at 202-586-6408.

FOR FURTHER INFORMATION CONTACT: The WNGSR is available on EIA's Internet site at http://tonto.eia.doe.gov/oog/info/ngs/ngs.html. The survey Form EIA-912 and instructions used to collect information for the WNGSR are available at http://www.eia.doe.gov/oil_gas/natural—gas/survey_forms/nat_survey_forms.html. Requests for additional information should be directed to Mr. Trapmann at the address listed above.

SUPPLEMENTARY INFORMATION:

I. Background

II. Current Actions

III. Request for Comments

I. Background

The Federal Energy Administration Act of 1974 (Pub. L. No. 93-275, 15 U.S.C. 761 et seq.) and the DOE Organization Act (Pub. L. No. 95-91, 42 U.S.C. 7101 et seq.) require the EIA to carry out a centralized, comprehensive, and unified energy information program. This program collects, evaluates, assembles, analyzes, and disseminates information on energy resource reserves, production, demand, technology, and related economic and statistical information. This information is used to assess the adequacy of energy resources to meet near and longer term domestic demands.

The EIA provides the public and other Federal agencies with opportunities to comment on collections of energy information conducted by EIA. As appropriate, EIA also requests comments on important issues relevant to EIA dissemination of energy information. Comments received help the EIA when preparing information collections and information products necessary to EIA's mission.

The Weekly Natural Gas Storage Report (WNGSR) provides weekly estimates of working gas volumes held in underground storage facilities at the national and regional levels. WNGSR users include policymakers, commodity market analysts, and industry experts. EIA uses the data to prepare analytical products assessing storage operations and the impact on supplies available, and to analyze relationships between demand, heating-degree-days, and inventory levels.

II. Current Actions

EIA is developing a policy for revisions to data disseminated in the WNGSR. EIA is soliciting public involvement and comments on the revision policy.

The WNGSR is based on information collected on Form EIA-912. Form EIA-912 respondents provide estimates for working gas in storage as of 9 a.m. Friday each week. The deadline for submitting reports to the EIA is 5 p.m. Eastern Time the following Monday, except when Monday is a Federal holiday. In that case, forms should be submitted by 5 p.m. on Tuesday. The WNGSR is released on Thursday between 10:30 and 10:40 a.m. Eastern Time on EIA's Web site, except when Thursday is a Federal holiday. Notification of changes in this general schedule is maintained on the EIA Web site at http://tonto.eia.doe.gov/oog/info/ngs/schedule.html.

A Form EIA-912 respondent is instructed to submit revisions to previously reported data if the revisions are greater than one billion cubic feet (BCF). As with any EIA information product based on survey data, the WNGSR data may undergo revision(s) based on a number of factors including:

(1) As more accurate information becomes available to a respondent after the Form EIA-912 is filed, a respondent may need to file new data.

(2) After submitting Form EIA-912 and prior to the next weekly submission, a respondent may determine that information submitted was incorrect (e.g., numbers were transposed, numbers were entered in the wrong item on the form, other reporting errors).

(3) A respondent may submit Form EIA-912 too late for inclusion in the current week estimates for the WNGSR.

(4) A respondent may report a reclassification of base and working gas.

(5) A respondent may report a change in field operating status.

(6) EIA may incorporate a new reference month in the estimation process.

With respect to the dissemination of revisions to WNGSR data, EIA is proposing a policy for two revision types; i.e., (1) scheduled revisions, and (2) unscheduled major revisions.

Scheduled revisions are made in the next scheduled WNGSR and occur when the cumulative effect of all reported changes is at least seven billion cubic feet (BCF) at either a regional or national level but less than the quantity determined as the threshold for an unscheduled revision. If a revision is made, changes to all regions will be recorded. Consequently, although all respondents' changes will be entered into EIA's database for editing, imputation, and other analytic purposes, the changes will only lead to a published revision when it exceeds the seven BCF threshold.

Unscheduled major revisions are of significant magnitude and interest and as a result the revised WNGSR data will be disseminated prior to the next scheduled WNGSR. An unscheduled major release will occur when the following two conditions are met: (1) EIA has received and confirmed the need for a revision in either the most recent current week or prior week estimates of an amount which is at least 35 BCF or one standard error of the national estimate, and (2) the revised estimates will be available for dissemination at least 24 hours before the next scheduled WNGSR. The threshold of 35 billion cubic feet was selected because that would have been the approximate standard error of the national estimate if the EIA-912 survey had been operating in March 2001 when national inventories were at 742 BCF. EIA's intention to release an unscheduled major revision will be announced to the public through the EIA Web site and the e-mail list-serves maintained for the WNGSR and the National Energy Information Center. Interested parties may sign up for the WNGSR list serve without charge through the EIA Web site at http://www.eia.doe.gov/listserv_signup.html. EIA proposes that an unscheduled major revision will be released at 10:30 a.m. Eastern Time on the next day that the Federal government is open for business following the announcement.

III. Request for Comments

The public should comment on the actions discussed in item II as well as the questions below.

General Issues

A. Is the proposed WNGSR revision policy appropriate for both scheduled and unscheduled revisions?

B. What additional actions could EIA take to help ensure and maximize the quality, objectivity, utility, and integrity of the WNGSR?

Scheduled Revisions

A. Is the threshold criteria for scheduled revisions of a change of at least seven BCF appropriate but less than the quantity determined as the threshold for an unscheduled revision appropriate?

B. What information should be made available to WNGSR users with respect to scheduled revisions?

Unscheduled Major Revisions

A. Is the threshold criteria of a change of at least 35 BCF or one standard error of the national estimate appropriate for a major unscheduled revision?

B. Is the timing criteria that a major unscheduled revision must be available for dissemination at least 24 hours before the next scheduled WNGSR appropriate?

C. Are there any other criteria that should be considered regarding the threshold size and timing of the release of major unscheduled revisions?

D. How should the public be notified of the upcoming release of an unscheduled major revision?

E. How soon after the notification should the unscheduled major revision be released?

Comments submitted in response to this notice will be considered during development of EIA's policy for revisions of the WNGSR. The comments will also become a matter of public record.

After EIA has completed development of the WNGSR revision policy, a Federal Register notice will be issued announcing the policy.

Statutory Authority: Section 52 of the Federal Energy Administration Act (Pub. L. No. 93-275, 15 U.S.C. 790a).

Issued in Washington, DC, July 5, 2002.
Jay H. Casselberry,
Agency Clearance Officer, Statistics and Methods Group, Energy Information Administration.

[FR Doc. 02-17421 Filed 7-10-02; 8:45 am]

BILLING CODE 6450-01-P